DEPARTMENT OF HEALTH AND HUMAN SERVICES

Administration on Aging

2005 White House Conference on Aging Policy Committee

AGENCY: Administration on Aging, HHS.

ACTION: Notice of meeting.

SUMMARY: Pursuant to Section 10(a) of the Federal Advisory Committee Act as amended (5 U.S.C. Appendix 2), notice is hereby given of the fourth Policy Committee meeting concerning planning for the 2005 White House Conference on Aging. The meeting will be open to the public, with attendance limited to space available. Individuals who plan to attend and need special assistance, such as sign language interpretation or other reasonable accommodations, should inform the contact person listed below in advance of the meeting.

DATES: The meeting will be held Thursday, February 10, 2005, from 9 a.m. to 5 p.m.

ADDRESSES: The meeting will be held at the American Association of Homes and Services for the Aging, 2519 Connecticut Avenue, NW., Conference Room, Washington, DC 20008-1520.

FOR FURTHER INFORMATION CONTACT: Nora Andrews, (301) 443-2874, or e-mail at Nora.Andrews@whcoa.gov.

SUPPLEMENTARY INFORMATION: Pursuant to the Older Americans Act Amendments of 2000 (Pub. L. 106-501, November 2000), the Policy Committee will meet to discuss subcommittee issues, conference technology, process under development for delegate selection, and the conference format and speakers.

Edwin L. Walker,
Deputy Assistant Secretary for Policy and Programs.

[FR Doc. 05-1302 Filed 1-24-05; 8:45 am]

BILLING CODE 4154-01-P